DEPARTMENT OF EDUCATION

Final Waiver and Extension of the Project Period; Native American Career and Technical Education Program

AGENCY: Office of Career, Technical, and Adult Education, Department of Education.

ACTION: Final waiver and extension of the project period.

[Catalog of Federal Domestic Assistance (CFDA) Number: 84.101A.]

SUMMARY: For the 24-month projects funded in fiscal year (FY) 2013 under the Native American Career and Technical Education Program (NACTEP), the Secretary waives the requirements that generally prohibit project period extensions involving the obligation of additional Federal funds. The Secretary also extends the project periods of these grants for up to an additional 24 months. This enables the current NACTEP grantees to request and continue to receive Federal funding annually in FY 2015 and FY 2016 for project periods through FY 2016 and possibly through FY 2017.

DATES: The waiver and extension of the project period is effective July 6, 2015.

FOR FURTHER INFORMATION CONTACT: Gwen Washington, U.S. Department of Education, 400 Maryland Avenue SW., Room 11076, Potomac Center Plaza (PCP), Washington, DC 20202-7241. Telephone: (202) 245-7790, or by email: gwen.washington@ed.gov. Or Linda Mayo, U.S. Department of Education, 400 Maryland Avenue SW., Room 11075, PCP, Washington, DC 20202-7241. Telephone: (202) 245-7792, or by email: linda.mayo@ed.gov.

If you use a telecommunications device for the deaf or a text telephone, call the Federal Relay Service, toll free, at 1-800-877-8339.

SUPPLEMENTARY INFORMATION: On February 10, 2015, we published in the Federal Register (80 FR 7440) a proposed waiver of 34 CFR 75.261(a) and (c)(2) and extension of the project period (proposed waiver and extension) in order to—

(1) Enable the Secretary to provide additional funds to the current NACTEP grantees with FY 2015 funds and possibly FY 2016 funds for project periods through FY 2016 and possibly through FY 2017; and

(2) Request comments on the proposed waiver and extension.

There are no substantive differences between the proposed waiver and extension and the final waiver and extension.

Public Comment: In response to our invitation in the proposed waiver and extension, we received 22 comments. Generally, we do not address comments that raise concerns not related to the proposed waiver and extension.

Analysis of Comments and Discussion

An analysis of the comments received in response to the proposed waiver and extension follows.

Comments: The 22 comments we received supported the proposed waiver and extension of the NACTEP project period. We heard from a variety of commenters, including tribal community college presidents, deans and administrators, teachers, students, and project evaluators. Several commenters provided a variety of reasons for their support of the waiver and extension, including: the effectiveness of work being done by current grantees, the number of students served and placed in employment under current projects, and the great need for NACTEP projects to continue in the Native American and Alaska communities served by current projects.

Several commenters stated that it would be difficult for eligible entities to prepare NACTEP applications for short-term funding prior to the expected reauthorization of the Carl D. Perkins Career and Technical Education Act of 2006 (the Perkins Act). Some commenters stated that it was not in the public interest to conduct a NACTEP grant competition at this time because there are likely to be changes in the Perkins Act for NACTEP beyond FY 2015.

Several commenters expressed the view that the waiver and extension are necessary to allow current students sufficient time to complete their programs, which include programs awarding industry-recognized credentials, two-year certificates, and associate degrees.

One commenter noted that tribal colleges would not have sufficient time to plan, establish, or effectively operate viable programs, in a one-year timeframe. The commenter expressed the view that continuing the projects of current grantees would eliminate the difficulties, barriers, and inefficiencies associated with starting new programs, stating that extending the current project period and funding of current grantees would: Capitalize upon the current momentum of grantee service delivery, since service streams were already in place and operational; allow current grantees to modify their programs based on their experience to date without disruption to the projects' participants, partnerships, programs, or plans; and increase the likelihood of student attainment of associate degrees and certificates and subsequent job placement. The commenter further stated that, under NACTEP, grantees must evaluate the long-term impact of each project, which will be facilitated by extending the project duration beyond two years.

Another commenter noted that a lapse of funds would create a set-back in the progress made in cultivating successful relationships with the local community college to provide in-demand training within their Native American community.

A commenter provided examples of exemplary NACTEP programs that are making substantial gains in combating poverty and unemployment, long-term joblessness, and other problems that contribute to the lack of gainful employment. The commenter stated that the grantees have partnered with local community colleges to provide students opportunities to earn college credits, as well as State and national certifications that prepare students for employment. This commenter expressed the need for the Department to approve the NACTEP waiver and extension for current grantees.

Discussion: We appreciate the commenters' support and agree that extending the current NACTEP grant period will allow current NACTEP grantees to continue to work towards accomplishing the goals and objectives stated in their 2013 NACTEP applications, including providing specialized career and technical education programs to Native American students. We agree that it is important that there not be a lapse in the programming provided by NACTEP grantees to students.

Changes: None.

Background

NACTEP, as authorized by section 116(a) through (g) of the Perkins Act, supports grants to federally recognized Indian tribes, tribal organizations, Alaska Native entities and eligible Bureau of Indian Education-funded schools to improve career and technical education programs that benefit Native Americans and Alaskan Natives.

On February 26, 2013, we published in the Federal Register (78 FR 13030) a notice inviting applications for NACTEP grants (2013 NIA). Although in previous NACTEP competitions the Secretary invited applications with a proposed project period of five years, in anticipation of congressional reauthorization of the Perkins Act, in the FY 2013 competition, the Department invited applications with proposed project periods of only two years. The project period for the current 31 NACTEP grantees is scheduled to end in FY 2015.

Because there is the potential for changes in the Perkins Act for NACTEP beyond FY 2015, we do not believe it is in the public interest to hold a new NACTEP competition in FY 2015 for projects that may then operate for just one year, or to announce a competition under which eligible entities would be expected to proceed through the application preparation and submission process while lacking critical information about the future of the program. Further, we do not think that it is in the public interest to have a lapse in the services currently provided by the NACTEP grantees.

For these reasons, the Secretary waives the requirements of 34 CFR 75.261(a) and (c)(2) that generally prohibit project extensions involving the obligation of additional Federal funds and extends the NACTEP project periods for up to 24 months. The waiver and extension will allow the current NACTEP grantees to request and continue to receive Federal funding annually for project periods through FY 2016 and possibly through FY 2017. We will fund the extended project period by using funds appropriated for FY 2015 or FY 2016, depending on whether the grants are extended for one or two years.

Any activities carried out during the period of a NACTEP continuation award will have to be consistent with, or a logical extension of, the scope, goals, and objectives of the grantee's application as approved in the FY 2013 NACTEP competition. The requirements applicable to continuation awards for this competition set forth in the 2013 NIA and the requirements in 34 CFR 75.253 will apply to any continuation awards sought by the current NACTEP grantees. We will base our decisions regarding continuation awards on the program narratives, budgets, budget narratives, and program performance reports submitted by the current grantees, and the requirements in 34 CFR 75.253.

The waiver and extension will not exempt the current NACTEP grantees from the appropriation account closing provisions of 31 U.S.C. 1552(a), nor will they extend the availability of funds previously awarded to current NACTEP grantees. As a result of 31 U.S.C. 1552(a), appropriations available for a limited period may be used for payment of valid obligations for only five years after the expiration of their period of availability for Federal obligation. After that time, the unexpended balance of those funds is canceled and returned to the U.S. Department of the Treasury and is unavailable for restoration for any purpose (31 U.S.C. 1552(b)).

Regulatory Flexibility Act Certification

The Secretary certifies that the waiver and extension and the activities required to support two additional years of NACTEP funding will not have a significant economic impact on a substantial number of small entities. The small entities that will be affected by the waiver and extension are the 31 currently-funded NACTEP grantees and any other potential applicants.

The Secretary certifies that the waiver and extension will not have a significant economic impact on these entities because the extension of an existing project imposes minimal compliance costs, and the activities required to support the additional years of funding will not impose additional regulatory burdens or require unnecessary Federal supervision.

Paperwork Reduction Act of 1995

This waiver and extension does not contain any information collection requirements.

Intergovernmental Review

NACTEP is not subject to Executive Order 12372 and the regulations in 34 CFR part 79.

Accessible Format: Individuals with disabilities can obtain this document in an accessible format (e.g., braille, large print, audiotape, or compact disc) on request to either of the contact persons listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Program Authority: 20 U.S.C. 2326(a) through (g).

Dated: June 30, 2015.
Johan E. Uvin,
Acting Assistant Secretary for Career, Technical, and Adult Education.

[FR Doc. 2015-16496 Filed 7-2-15; 8:45 am]

BILLING CODE 4000-01-P